DEPARTMENT OF COMMERCE

Foreign-Trade Zones Board

[Docket 36-2000]

Foreign-Trade Zone 173—Grays Harbor County, Washington; Application for Expansion

An application has been submitted to the Foreign-Trade Zones (FTZ) Board (the Board), by the Port of Grays Harbor (PGH), grantee of Foreign-Trade Zone 173, requesting authority to expand its zone in Grays Harbor County, Washington, adjacent to the Aberdeen Customs port of entry. The application was submitted pursuant to the provisions of the Foreign-Trade Zones Act, as amended (19 U.S.C. 81a-81u), and the regulations of the Board (15 CFR Part 400). It was formally filed on July 10, 2000.

FTZ 173 was approved on February 1, 1991 (Board Order 503, 56 FR 5384, 2/11/91) and includes subzone status for the manufacturing plant of Lamb-Grays Harbor Company (Subzone 173A) in Hoquiam. The general-purpose zone currently consists of five sites (589 acres) in Grays Harbor County: Site 1 (292 acres)—PGH Port Industrial area, including a marine terminal complex, Aberdeen and Hoquiam; Site 2 (45 acres)—PGH Industrial Development District No.1, Harbor Navigation Channel, Hoquiam; Site 3 (132 acres)—Bowerman Airfield and adjacent industrial park, Grays Harbor County; Site 4 (117 acres)—PGH industrial parcel on State Highway 105, Westport Marina, Westport; and, Site 5 (3 acres)—Westport Marina, Main Dock, Westport.

The applicant is now requesting authority to expand its general-purpose zone to enlarge Site 1 and to add 2 new sites in Grays Harbor County. Site 1 will be expanded from 292 acres to 367 acres at the PGH-Port Industrial Area site in Hoquiam and Aberdeen. The two new proposed sites are as follows: Proposed Site 6 (150 acres)—PGH Terminal 3, Marine Terminal and Industrial Park, 616 Airport Way and 400 Airport Way, Hoquiam; and, Proposed Site 7 (440 acres)—Satsop Development Park, 471 Lambert Road, Elma. Expanded Site 1 and Proposed Site 3 are owned by PGH and Proposed Site 2 is owned by the Grays Harbor Public Development Authority. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is September 12, 2000. Rebuttal comments in response to material submitted during the foregoing period may be submitted during the subsequent 15-day period (to September 27, 2000).

A copy of the application and accompanying exhibits will be available for public inspection at each of the following locations:

Office of the Port of Grays Harbor, 111 S. Wooding Street, Aberdeen, WA 98520.

Office of the Executive Secretary, Foreign-Trade Zones Board, Room 4008, U.S. Department of Commerce, 14th & Pennsylvania Avenue, NW, Washington, DC 20230.

Dated: July 10, 2000.
Dennis Puccinelli,
Executive Secretary.

[FR Doc. 00-17906 Filed 7-13-00; 8:45 am]

BILLING CODE 3510-DS-P